DEPARTMENT OF ENERGY

Federal Energy Regulatory Commission

Combined Notice of Filings #1

Take notice that the Commission received the following exempt wholesale generator filings:

Docket Numbers: EG24-47-000.

Applicants: Elkhart County Solar Project LLC.

Description: Elkhart County Solar Project LLC submits Notice of Self-Certification of Exempt Wholesale Generator Status.

Filed Date: 12/1/23.

Accession Number: 20231201-5295.

Comment Date: 5 p.m. ET 12/22/23.

Take notice that the Commission received the following electric rate filings:

Docket Numbers: ER22-910-004.

Applicants: Rockland Electric Company PJM Interconnection L.L.C.

Description: Compliance filing: Rockland Electric Company submits tariff filing per 35: RECO Compliance Filing in ER22-910 to be effective 1/1/2024.

Filed Date: 12/1/23.

Accession Number: 20231201-5230.

Comment Date: 5 p.m. ET 12/22/23.

Docket Numbers: ER23-2820-001.

Applicants: Alabama Power Company Georgia Power Company Mississippi Power Company.

Description: Tariff Amendment: Alabama Power Company submits tariff filing per 35.17(b): Laurens Solar I LGIA Deficiency Response Filing to be effective 9/6/2023.

Filed Date: 12/1/23.

Accession Number: 20231201-5229.

Comment Date: 5 p.m. ET 12/22/23.

Docket Numbers: ER24-228-002.

Applicants: South Cheyenne Solar LLC.

Description: Tariff Amendment: Revision of Proposed Market-Based Rate Tariff to be effective 12/1/2023.

Filed Date: 12/1/23.

Accession Number: 20231201-5248.

Comment Date: 5 p.m. ET 12/22/23.

Docket Numbers: ER24-509-000.

Applicants: Pacific Gas and Electric Company.

Description: § 205(d) Rate Filing: November 2023 Western WDT Service Agreement Biannual Filing (SA 17) to be effective 2/1/2024.

Filed Date: 11/30/23.

Accession Number: 20231130-5254.

Comment Date: 5 p.m. ET 12/21/23.

Docket Numbers: ER24-510-000.

Applicants: Pacific Gas and Electric Company.

Description: § 205(d) Rate Filing: November 2023 Western Interconnection Biannual Filing (SA 59) to be effective 2/1/2024.

Filed Date: 11/30/23.

Accession Number: 20231130-5260.

Comment Date: 5 p.m. ET 12/21/23.

Docket Numbers: ER24-511-000.

Applicants: Duke Energy Florida LLC.

Description: § 205(d) Rate Filing: DEF-SECI Reimbursement Agmt RS No. 357 to be effective 1/30/2024.

Filed Date: 11/30/23.

Accession Number: 20231130-5268.

Comment Date: 5 p.m. ET 12/21/23.

Docket Numbers: ER24-512-000.

Applicants: New England Power Pool Participants Committee.

Description: § 205(d) Rate Filing: Dec 2023 Membership Filing to be effective 12/1/2023.

Filed Date: 11/30/23.

Accession Number: 20231130-5280.

Comment Date: 5 p.m. ET 12/21/23.

Docket Numbers: ER24-513-000.

Applicants: Idaho Power Company.

Description: § 205(d) Rate Filing: Revisions to Attachment C to be effective 2/1/2024.

Filed Date: 12/1/23.

Accession Number: 20231201-5000.

Comment Date: 5 p.m. ET 12/22/23.

Docket Numbers: ER24-513-001.

Applicants: Idaho Power Company.

Description: Tariff Amendment: Errata to Revisions to Attachment C to be effective 2/1/2024.

Filed Date: 12/1/23.

Accession Number: 20231201-5292.

Comment Date: 5 p.m. ET 12/22/23.

Docket Numbers: ER24-515-000.

Applicants: Midcontinent Independent System Operator Inc. American Transmission Company LLC.

Description: § 205(d) Rate Filing: Midcontinent Independent System Operator Inc. submits tariff filing per 35.13(a)(2)(iii): 2023-12-01_SA 4200-4205 ATC-WEPCo PCAs (SW WI ED Area) to be effective 1/31/2024.

Filed Date: 12/1/23.

Accession Number: 20231201-5022.

Comment Date: 5 p.m. ET 12/22/23.

Docket Numbers: ER24-516-000.

Applicants: Midcontinent Independent System Operator Inc.

Description: § 205(d) Rate Filing: 2023-12-01_SA 6522 MISO-Manitowoc Public Utilities Second SSR Agrmt Lakefront 9 to be effective 2/1/2024.

Filed Date: 12/1/23.

Accession Number: 20231201-5156.

Comment Date: 5 p.m. ET 12/22/23.

Docket Numbers: ER24-517-000.

Applicants: Duke Energy Florida LLC.

Description: § 205(d) Rate Filing: DEF-SECI Reimbursement Agmt (Gilchrist) RS No. 356 to be effective 1/31/2024.

Filed Date: 12/1/23.

Accession Number: 20231201-5177.

Comment Date: 5 p.m. ET 12/22/23.

Docket Numbers: ER24-518-000.

Applicants: Duke Energy Florida LLC.

Description: § 205(d) Rate Filing: DEF-SECI Reimbursement Agmt (Columbia) RS No. 355 to be effective 1/31/2024.

Filed Date: 12/1/23.

Accession Number: 20231201-5193.

Comment Date: 5 p.m. ET 12/22/23.

Docket Numbers: ER24-519-000.

Applicants: Morongo Transmission LLC.

Description: § 205(d) Rate Filing: Annual Operating Cost Update Filing 2024 to be effective 1/1/2024.

Filed Date: 12/1/23.

Accession Number: 20231201-5199.

Comment Date: 5 p.m. ET 12/22/23.

Docket Numbers: ER24-520-000.

Applicants: Morongo Transmission LLC.

Description: § 205(d) Rate Filing: Annual TRBAA Filing 2024 to be effective 1/1/2024.

Filed Date: 12/1/23.

Accession Number: 20231201-5205.

Comment Date: 5 p.m. ET 12/22/23.

Docket Numbers: ER24-521-000.

Applicants: Duke Energy Florida LLC.

Description: § 205(d) Rate Filing: DEF-Shady Hills Amended and Restated LGIA to be effective 11/14/2023.

Filed Date: 12/1/23.

Accession Number: 20231201-5215.

Comment Date: 5 p.m. ET 12/22/23.

Docket Numbers: ER24-522-000.

Applicants: Alabama Power Company Georgia Power Company Mississippi Power Company.

Description: § 205(d) Rate Filing: Alabama Power Company submits tariff filing per 35.13(a)(2)(iii): Amendment of Americus Solar & Battery Amended and Restated LGIA to be effective 11/20/2023.

Filed Date: 12/1/23.

Accession Number: 20231201-5225.

Comment Date: 5 p.m. ET 12/22/23.

Docket Numbers: ER24-523-000.

Applicants: Alabama Power Company Georgia Power Company Mississippi Power Company.

Description: § 205(d) Rate Filing: Alabama Power Company submits tariff filing per 35.13(a)(2)(iii): SR Hope Hull LGIA Filing to be effective 11/20/2023.

Filed Date: 12/1/23.

Accession Number: 20231201-5233.

Comment Date: 5 p.m. ET 12/22/23.

Docket Numbers: ER24-524-000.

Applicants: San Diego Gas & Electric Company.

Description: Informational Filing [Cycle 6] of Fifth Transmission Owner Rate Formula Rate Mechanism of San Diego Gas & Electric Company.

Filed Date: 12/1/23.

Accession Number: 20231201-5262.

Comment Date: 5 p.m. ET 12/22/23.

Docket Numbers: ER24-525-000.

Applicants: Manitowoc Public Utilities.

Description: Baseline eTariff Filing: RS FERC No. 4-Monthly SSR Payment for Lakefront No. 9 with MISO to be effective 2/1/2024.

Filed Date: 12/1/23.

Accession Number: 20231201-5278.

Comment Date: 5 p.m. ET 12/22/23.

The filings are accessible in the Commission's eLibrary system (https://elibrary.ferc.gov/idmws/search/fercgensearch.asp) by querying the docket number.

Any person desiring to intervene to protest or to answer a complaint in any of the above proceedings must file in accordance with Rules 211 214 or 206 of the Commission's Regulations (18 CFR 385.211 385.214 or 385.206) on or before 5:00 p.m. Eastern time on the specified comment date. Protests may be considered but intervention is necessary to become a party to the proceeding.

eFiling is encouraged. More detailed information relating to filing requirements interventions protests service and qualifying facilities filings can be found at: http://www.ferc.gov/docs-filing/efiling/filing-req.pdf. For other information call (866) 208-3676 (toll free). For TTY call (202) 502-8659.

The Commission's Office of Public Participation (OPP) supports meaningful public engagement and participation in Commission proceedings. OPP can help members of the public including landowners environmental justice communities Tribal members and others access publicly available information and navigate Commission processes. For public inquiries and assistance with making filings such as interventions comments or requests for rehearing the public is encouraged to contact OPP at (202) 502-6595 or OPP@ferc.gov.

Dated: December 1 2023.
Kimberly D. Bose
Secretary.

[FR Doc. 2023-26868 Filed 12-6-23; 8:45 am]

BILLING CODE 6717-01-P